DEPARTMENT OF STATE

[Public Notice: 10920]

Notice of Availability of the Draft Supplemental Environmental Impact Statement for the Proposed Keystone XL Pipeline; Public Meeting Announcement

ACTION: Notice; solicitation of comments.

SUMMARY: The U.S. Department of State (Department) announces the availability for public review and comment of the Draft Supplemental Environmental Impact Statement (Draft SEIS) for the Proposed Keystone XL Pipeline. The Draft SEIS—consistent with the National Environmental Policy Act (NEPA) of 1969—updates the 2014 Final Supplemental Environmental Impact Statement, analyzes the impacts related to changes in the Project since 2014, and incorporates current information and new studies, as applicable. In connection with the publication of the Draft SEIS, the Department plans to hold a public meeting in Billings, Montana, on Tuesday, October 29.

DATES: The Department invites members of the public, government agencies, tribal governments, and all other interested parties to comment on the Draft SEIS during the 45-day public comment period, ending on November 18, 2019. Comments provided by agencies and organizations should list a designated contact person. All comments received during the public comment period may be publicized; they will be neither private nor edited to delete either identifying or contact information. Commenters should omit information that they do not want disclosed. Any party who will either solicit or aggregate other people's comments should convey this cautionary note.

The Department plans to hold a public meeting on Tuesday, October 29, 2019, at the Billings Hotel & Convention Center, 1223 Mullowney Lane, Billings, MT 59101, from 4:30 p.m. to 7:30 p.m. MDT. This open house-style gathering will afford members of the public the opportunity to speak with Department officials, learn more about the proposed Keystone XL Pipeline project, and provide comments on the Draft SEIS. Further details will be available at https://www.state.gov/releases-keystone-xl-pipeline.

ADDRESSES: Comments may be submitted at https://www.regulations.gov by entering docket number DOS-2019-0033 or the title of this Notice into the search field, and then following the prompts.

FOR FURTHER INFORMATION CONTACT: Ross Alliston, Keystone XL Program Manager, Office of Environmental Quality and Transboundary Issues, U.S. Department of State, 2201 C Street NW, Washington, DC 20520. (202) 647-4828, AllistonMR@state.gov.

SUPPLEMENTARY INFORMATION: On May 25, 2018, the Department issued a Notice of Intent to Prepare an Environmental Assessment for the Proposed Keystone XL Pipeline Mainline Alternative Route in Nebraska (83 FR 24383), which provided for a 30-day public scoping period. On July 30, 2018, the Department issued a Notice of Availability of the Draft Environmental Assessment for the Proposed Keystone XL Pipeline Mainline Alternative Route in Nebraska (83 FR 36659), which provided for a 30-day public comment period. On September 17, 2018, the Department issued a Notice of Intent to Prepare a Supplemental Environmental Impact Statement for the Proposed Keystone XL Pipeline Mainline Alternative Route in Nebraska (83 FR 46989). On September 24, 2018, the Department issued a Notice of Availability of the Draft Supplemental Environmental Impact Statement for the Proposed Keystone XL Pipeline Mainline Alternative Route in Nebraska (83 FR 48358), which provided for a 45-day public comment period.

The Department published a Notice of Intent (NOI) in the Federal Register (FR) on December 3, 2018, to announce its intent to prepare a new SEIS for the proposed Keystone XL Pipeline (83 FR 62398). The Department will consider comments received during this comment period—as well as from both previous comment periods referenced above—in the Final SEIS document.

Availability of the Draft SEIS: Copies of the Draft SEIS have been distributed to state and federal government agencies, tribal governments, and other interested parties. The Draft SEIS is available online at https://www.state.gov/releases-keystone-xl-pipeline. Printed copies may be obtained by either contacting Ross Alliston at the above address or visiting the below-listed libraries:

Library | Address
Montana
Fallon County Library | 6 West Fallon Avenue, Baker, MT 59313.
Glasgow City-County Library | 408 3rd Avenue South, Glasgow, MT 59230.
Glendive Public Library | 200 S Kendrick Avenue, Glendive, MT 59330.
McCone County Library | 1101 C Avenue, P.O. Box 49, Circle MT 59215.
Phillips County Library | 10 South 4th Street East, P.O. Box 840, Malta, MT 59538.
Prairie County Library | 309 Garfield Avenue, P.O. Box 275, Terry, MT 59349.
South Dakota
Bison Public Library | 300 W Carr Street, Bison, SD 57620.
Faith Public and School Library | 204 W Fifth St., P.O. Box 172, Faith, SD 57626.
Haakon County Public Library | 140 S Howard Avenue, P.O. Box 481, Philip, SD 57567.
Northwest Regional Library | 410 Ramsland St., P.O. Box 26, Buffalo, SD 57720.
Newell Public Library | 208 Girard Avenue, P.O. Box 54, Newell, SD 57760.
Presho Public Library | 108 Main Street, P.O. Box 118, Presho, SD 57568.
Tripp County Library—Grossenburg Memorial | 442 Monroe Street, Winner, SD 57580.
Wall Community Library | 407 Main Street, P.O. Box 131, Wall, SD 57790.
Nebraska
Atkinson Public Library | 210 West State Street, P.O. Box 938, Atkinson, NE 68713.
Clarkson Public Library | 318 Pine Street, P.O. Box 17, Clarkson, NE 68629.
Columbus Public Library | 2504 14th Street, Columbus, NE 68601.
Crete Public Library | 305 East 13th Street, Crete, NE 68333.
David City Public Library | 399 N 5th Street, David City, NE 68632.
Davies Memorial Library | 612 Thayer Street, P.O. Box 276, Butte, NE 68722.
Fairbury Public Library | 601 7th Street, Fairbury, NE 68352.
Keya Paha County Library | 118 Main Street, P.O. Box 134, Springview, NE 68778.
Neligh Public Library | 710 Main Street, Neligh, NE 68756.
Norfolk Public Library | 308 West Prospect Avenue, Norfolk, NE 68701.
Seward Memorial Library | 233 South 5th Street, Seward, NE 68434.
Stanton Public Library | 1009 Jackpine Street, P.O. Box 497, Stanton, NE 68779.

Robert D. Wing,
Acting Director, Office of Environmental Quality and Transboundary Issues, Department of State.

[FR Doc. 2019-21702 Filed 10-3-19; 8:45 am]

BILLING CODE 4710-09-P